DEPARTMENT OF COMMERCE

National Oceanic and Atmospheric Administration

RIN 0648-XV25 and 0648-XV50

Western Pacific Fishery Management Council; Public Meeting; Corrections

AGENCY: National Marine Fisheries Service (NMFS), National Oceanic and Atmospheric Administration (NOAA), Commerce.

ACTION: Notice of corrections to two public meeting notices.

SUMMARY: NMFS published a document in the Federal Register on March 17, 2010 notifying the public that the Western Pacific Fishery Management Council (Council) will hold a public meeting to address the longline fishery issues and the future of longline fisheries in the Western Pacific Region on Tuesday and Wednesday, April 6 and 7, 2010, from 8:30 a.m. to 5 p.m. The document contained incorrect dates. NMFS also published a document in the Federal Register on March 26, 2010 that the Council will hold the Hawaii Regional Ecosystem Advisory Committee (REAC) on Tuesday April 13, 2010. The document contained an incorrect date.

FOR FURTHER INFORMATION CONTACT: Kitty M. Simonds, Executive Director; telephone: (808) 522-8220.

SUPPLEMENTARY INFORMATION: This document corrects the date and time of the public meeting to address the longline fishery issues and the future of longline fisheries in the Western Pacific Region noticed in the Federal Register of March 17, 2010, in FR Doc. Volume 75, No. 51 on page 12733-12734. The dates and time of the public meeting should read April 27-28, 2010, 8:30 a.m. to 5 p.m. This document also corrects the date and time of the Hawaii REAC noticed in the Federal Register of March 26, 2010, in FR Doc. Volume 75, No. 58 on page 14571-14572. The dates and time of the Hawaii REAC should read May 6, 2010, 9 a.m. to 4 p.m.

All other information published previously remains unchanged.

Authority: 16 U.S.C. 1801 et seq.

Dated: April 5, 2010.
Tracey L. Thompson,
Acting Director, Office of Sustainable Fisheries, National Marine Fisheries Service.

[FR Doc. 2010-7992 Filed 4-7-10; 8:45 am]

BILLING CODE 3510-22-S